DEPARTMENT OF ENERGY

Federal Energy Regulatory Commission

Combined Notice of Filings #2

September 22, 2015.

Take notice that the Commission received the following exempt wholesale generator filings:

Docket Numbers: EG15-129-000.

Applicants: Eden Solar, LLC.

Description: Notice of Self-Certification of Exempt Wholesale Generator Status of Eden Solar, LLC.

Filed Date: 9/22/15.

Accession Number: 20150922-5159.

Comments Due: 5 p.m. ET 10/13/15.

Take notice that the Commission received the following electric rate filings:

Docket Numbers: ER10-2331-035; ER14-630-012; ER10-2319-027; ER10-2317-027; ER14-1468-011; ER13-1351-009; ER10-2330-034.

Applicants: J.P. Morgan Ventures Energy Corporation, AlphaGen Power LLC, BE Alabama LLC, BE CA LLC, KMC Thermo, LLC, Florida Power Development LLC, Utility Contract Funding, L.L.C.

Description: Non-Material Change in Status of the J.P. Morgan Sellers.

Filed Date: 9/22/15.

Accession Number: 20150922-5096.

Comments Due: 5 p.m. ET 10/13/15.

Docket Numbers: ER15-2285-001.

Applicants: New York Independent System Operator, Inc., Niagara Mohawk Power Corporation.

Description: Tariff Amendment: Amendment to SGIA 2219 among NYISO, NMPC, Monroe County to be effective 7/13/2015.

Filed Date: 9/22/15.

Accession Number: 20150922-5117.

Comments Due: 5 p.m. ET 10/13/15.

Docket Numbers: ER15-2590-001.

Applicants: Triolith Energy Fund L.P.

Description: Tariff Amendment: Triolith Energy Fund LP Tariff to be effective 9/4/2015.

Filed Date: 9/22/15.

Accession Number: 20150922-5113.

Comments Due: 5 p.m. ET 10/13/15.

Docket Numbers: ER15-2686-000.

Applicants: Alabama Power Company.

Description: Section 205(d) Rate Filing: Live Oak Solar LGIA Filing to be effective 9/11/2015.

Filed Date: 9/22/15.

Accession Number: 20150922-5097.

Comments Due: 5 p.m. ET 10/13/15.

Docket Numbers: ER15-2687-000.

Applicants: Lumens Energy Supply LLC.

Description: Tariff Cancellation: notice of cancellation to be effective 10/1/2015.

Filed Date: 9/22/15.

Accession Number: 20150922-5104.

Comments Due: 5 p.m. ET 10/13/15.

Docket Numbers: ER15-2688-000.

Applicants: MeadWestvaco Virginia Corporation.

Description: Section 205(d) Rate Filing: Notice of Succession to be effective 9/23/2015.

Filed Date: 9/22/15.

Accession Number: 20150922-5136.

Comments Due: 5 p.m. ET 10/13/15.

Docket Numbers: ER15-2689-000.

Applicants: MeadWestvaco Coated Board, LLC.

Description: Section 205(d) Rate Filing: Notice of Succession to be effective 9/23/2015.

Filed Date: 9/22/15.

Accession Number: 20150922-5138.

Comments Due: 5 p.m. ET 10/13/15.

Docket Numbers: ER15-2690-000.

Applicants: Southwest Power Pool, Inc.

Description: Section 205(d) Rate Filing: Attachment AE Revisions—Day-Ahead Reliability Unit Commitment Assessment to be effective 11/21/2015.

Filed Date: 9/22/15.

Accession Number: 20150922-5139.

Comments Due: 5 p.m. ET 10/13/15.

Docket Numbers: ER15-2691-000.

Applicants: Arizona Public Service Company.

Description: Tariff Cancellation: Cancellation of Rate Schedule No. 259—Bouse to be effective 11/25/2015.

Filed Date: 9/22/15.

Accession Number: 20150922-5158.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2015.
Nathaniel J. Davis, Sr.,
Deputy Secretary.

[FR Doc. 2015-24531 Filed 9-25-15; 8:45 am]

BILLING CODE 6717-01-P